DEPARTMENT OF DEFENSE

Department of the Air Force

2018 Public Interface Control Working Group and Forum for the Navstar Gps Public Documents

AGENCY: Global Positioning System Directorate (GPSD), Department of the Air Force.

ACTION: Meeting notice.

SUMMARY: This notice informs the public that the Global Positioning Systems (GPS) Directorate will host the 2018 Public Interface Control Working Group and Open Public Forum on September 12, 2018 for the following NAVSTAR GPS public documents: IS-GPS-200 (Navigation User Interfaces), IS-GPS-705 (User Segment L5 Interfaces), IS-GPS-800 (User Segment L1C Interface), ICD-GPS-240 (NAVSTAR GPS Control Segment to User Support Community Interfaces), and ICD-GPS-870 (NAVSTAR GPS Control Segment to User Support Community Interfaces). Additional logistical details can be found below.

DATES: 0830-1600 PST, 12 September 2018.

ADDRESSES: TASC/Engility, 100 N Sepulveda Blvd., El Segundo, CA 90245, The Great Room; Dial In: 310-653-2663 Meeting ID: 8337375 Password: 123456.

FOR FURTHER INFORMATION CONTACT: 1Lt Michael Telcide (310-653-4191) or Mr. Daniel Godwin (310-653-3163); SMCGPER@us.af.mil.

SUPPLEMENTARY INFORMATION: The purpose of this meeting is to update the public on GPS public document revisions and collect issues/comments for analysis and possible integration into future GPS public document revisions. All outstanding comments on the GPS public documents will be considered along with the comments received at this year's open forum in the next revision cycle. The 2018 Interface Control Working Group and Open Forum are open to the general public. For those who would like to attend and participate, we request that you register no later than August 30, 2018. Please send the registration information to SMCGPER@us.af.mil, providing your name, organization, telephone number, email address, and country of citizenship.

Comments will be collected, catalogued, and discussed as potential inclusions to the version following the current release. If accepted, these changes will be processed through the formal directorate change process for IS-GPS-200, IS-GPS-705, IS-GPS-800, ICD-GPS-240, and ICD-GPS-870. All comments must be submitted in a Comments Resolution Matrix. This form along with current versions of the documents and the official meeting notice are posted at: http://www.gps.gov/technical/icwg/meetings/2018/.

Please submit comments to the SMC/GPS Requirements (SMC/GPER) mailbox at SMCGPER@us.af.mil by August 24, 2018. Special topics may also be considered for the Public Open Forum. If you wish to present a special topic, please submit any materials to SMC/GPER no later than August 1, 2018. For more information, please contact 1Lt Michael Telcide at 310-653-4191 or Mr. Daniel Godwin at 310-653-3640.

Henry Williams,
Acting Air Force Federal Register Liaison Officer.

[FR Doc. 2018-12715 Filed 6-12-18; 8:45 am]

BILLING CODE 5001-10-P